DEPARTMENT OF STATE

[Public Notice 12368]

30-Day Notice of Proposed Information Collection: Supplemental Questions for Visa Applicants

ACTION: Notice of request for public comment and submission to OMB of proposed collection of information.

SUMMARY: The Department of State has submitted the information collection described below to the Office of Management and Budget (OMB) for approval. In accordance with the Paperwork Reduction Act of 1995, the Department is requesting comments on this collection from all interested individuals and organizations. The purpose of this Notice is to allow 30 days for public comment preceding submission of the collection to OMB.

DATES: The Department will accept comments from the public up to May 29, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Direct requests for additional information regarding the collection listed in this notice, including requests for copies of the proposed collection instrument and supporting documents, to Anabel Moreno-Mendez, who may be reached at 202-485-7611 or PRA_BurdenComments@state.gov.

SUPPLEMENTARY INFORMATION:

• Title of Information Collection: Supplemental Questions for Visa Applicants.

• OMB Control Number: 1405-0226.

• Type of Request: Extension of a Currently Approved Collection.

• Originating Office: CA/VO.

• Form Number: DS-5535.

• Respondents: Immigrant Visa Applicants, Nonimmigrant Visa Applicants.

• Estimated Number of Respondents: 50,000.

• Estimated Number of Responses: 50,000.

• Average Time per Response: 55 minutes.

• Total Estimated Burden Time: 45,833 hours.

• Frequency: Once per respondent's application.

• Obligation to Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Immigration and Nationality Act (“INA”), 8 U.S.C. 1101 et seq., sets out application and eligibility requirements for an applicant seeking to obtain nonimmigrant or immigrant visa. Most of the standards for determining visa ineligibility are detailed in INA 212(a), 8 U.S.C. 1182(a), which includes terrorist activities and other security and related grounds at INA 212(a)(3), 8 U.S.C. 1182(a)(3).

INA 221(a), 8 U.S.C. 1201(a) provides that a consular officer may issue an immigrant or nonimmigrant visa to an individual who has made a proper application, subject to applicable conditions and limitations in the INA and related regulations. Under INA 222(c), 8 U.S.C. 1202(c), every applicant for a nonimmigrant visa must provide certain identifying particulars—name, date of birth and birthplace, nationality, purpose and length of intended stay in the United States, marital status—and “such additional information necessary to the identification of the applicant, the determination of his eligibility for a nonimmigrant visa, and the enforcement of the immigration and nationality laws as may be by regulations prescribed.” Similar requirements apply to applicants for immigrant visas, pursuant to INA 222(a), 8 U.S.C. 1201(a). Under regulations set out in Title 22 of the Code of Federal Regulations, visa applications must be made on a standard form and a consular officer “may require the submission of additional necessary information or question an applicant on any relevant matter whenever the consular officer believes that the information provided in the application is inadequate to permit a determination of the applicant's eligibility to receive a nonimmigrant visa.” 22 CFR 41.103; see also 22 CFR 42.63 (immigrant visas).

Consular officers may require submission of a completed DS-5535 to supplement the immigrant and nonimmigrant visa applications. The DS-5535 solicits additional biographic information that is necessary to determine the applicant's eligibility for a visa.

Methodology

Consular officers ask these questions of a subset of nonimmigrant and immigrant visa applicants worldwide either orally or by providing a copy of the questions electronically or on paper. The applicant can respond orally, via email, via written response or via Microsoft e-version. The e-version of the information collection asks identical questions to the paper version. There are slight differences in formatting due to the different platforms. In some instances, when a paper copy is provided, the applicant may still be permitted to return the form electronically.

Julie M. Stufft,
Acting Deputy Assistant Secretary, Bureau of Consular Affairs, Department of State.

[FR Doc. 2024-09082 Filed 4-26-24; 8:45 am]

BILLING CODE 4710-06-P